INTERNATIONAL TRADE COMMISSION

[USITC SE-03-045]

Sunshine Act Meeting

AGENCY: International Trade Commission.

TIME AND DATES: January 9, 2004 at 11 a.m.

PLACE: Room 101, 500 E Street SW., Washington, DC 20436, Telephone: (202) 205-2000.

STATUS: Open to the public.

Matters To Be Considered

1. Agenda for future meetings: none.

2. Minutes.

3. Ratification List.

4. Inv. No. 731-TA-1058 (Preliminary) (Wooden Bedroom Furniture from China)—briefing and vote. (The Commission is currently scheduled to transmit its determination to the Secretary of Commerce on or before January 12, 2004; Commissioners' opinions are currently scheduled to be transmitted to the Secretary of Commerce on or before January 20, 2004.)

5. Outstanding action jackets: none.

In accordance with Commission policy, subject matter listed above, not disposed of at the scheduled meeting, may be carried over to the agenda of the following meeting.

By order of the Commission:
Issued: December 29, 2003.
Marilyn R. Abbott,
Secretary to the Commission.

[FR Doc. 03-32316 Filed 12-30-03; 10:29 am]

BILLING CODE 7020-02-P